DEPARTMENT OF TRANSPORTATION

Federal Railroad Administration

49 CFR Part 219

[Docket No. 2001-11213, Notice No. 5]

RIN 2130-AA81

Alcohol and Drug Testing: Change of Corporate Name, Address, and Telephone Numbers of Post-Accident Toxicological Testing Laboratory

AGENCY: Federal Railroad Administration (FRA), DOT.

ACTION: Final rule; technical amendment.

SUMMARY: FRA is amending its alcohol and drug rule to reflect changes to the corporate name, address, and telephone numbers of the laboratory designated to conduct post-accident toxicological testing.

DATES: Effective April 4, 2005.

FOR FURTHER INFORMATION CONTACT: Lamar Allen, Alcohol and Drug Program Manager, Office of Safety Enforcement, Mail Stop 25, Federal Railroad Administration, 1120 Vermont Avenue, NW., Washington, DC 20005, (202) 493-6313); or Kathy Schnakenberg, FRA Alcohol/Drug Program Specialist, (816) 561-2714.

SUPPLEMENTARY INFORMATION: FRA is amending appendix B to part 219 to reflect changes to the corporate name, address, and telephone numbers of the laboratory designated to conduct post-accident toxicological testing. In 1995, FRA awarded a contract to Northwest Toxicology, Inc. to conduct post-accident toxicological testing. The laboratory has since changed its corporate name twice; in 1998, when Northwest Toxicology, Inc. changed its corporate name to NWT Inc.; and in 2003, when LabOne acquired a division of NWT Inc. and changed the laboratory's name to Northwest Toxicology, a LabOne Company. FRA has modified its post-accident testing contract to recognize the laboratory's name change. Northwest Toxicology, a LabOne Company, recently moved to a new location. For mailing purposes, railroads should ship post-accident toxicological testing specimens to the following address and use the telephone numbers below: Northwest Toxicology/LabOne, Hayes Building, Suite #C, 2282 South Presidents Drive, West Valley City, UT 84120, Telephone: (800) 322-3361 or (801) 293-2300 (Day), (801) 244-5599 (Night/Weekend).

List of Subjects in 49 CFR Part 219

Alcohol abuse, Drug abuse, Drug testing, Penalties, Railroad safety, Safety, Transportation.

The Final Rule

In consideration of the foregoing, FRA amends chapter II, subtitle B of title 49, Code of Federal Regulations as follows:

PART 219—[AMENDED]

1. The authority citation for part 219 continues to read as follows:

Authority: 49 U.S.C. 20103, 20107, 20140, 21301, 21304, 21311; 28 U.S.C. 2461, note; and 49 CFR 1.49(m).

2. Appendix B to part 219 is revised to read as follows:

Appendix B to Part 219—Designation of Laboratory for Post-Accident Toxicological Testing

The following laboratory is currently designated to conduct post-accident toxicological analysis under subpart C of this part: Northwest Toxicology/LabOne, Hayes Building, Suite #C, 2282 South Presidents Drive, West Valley City, UT 84120, Telephone: (800) 322-3361 or (801) 293-2300 (Day), (801) 244-5599 (Night/Weekend).

Issued in Washington, DC, on March 29, 2005.
Robert D. Jamison,
Acting Administrator, Federal Railroad Administrator.

[FR Doc. 05-6653 Filed 4-1-05; 8:45 am]

BILLING CODE 4910-06-P